DEPARTMENT OF ENERGY

Federal Energy Regulatory Commission

[P-2705-037]

Seattle City Light; Notice of Reasonable Period of Time for Water Quality Certification Application

On February 10, 2025, Washington State Department of Ecology (Washington Ecology) submitted to the Federal Energy Regulatory Commission (Commission) notice that it received a request for a Clean Water Act section 401(a)(1) water quality certification as defined in 40 CFR 121.5, from Seattle City Light, in conjunction with the above captioned project on January 30, 2025. Pursuant to section 6.1(b) of the Commission's regulations,¹ we hereby notify Washington Ecology of the following:

¹ 18 CFR 6.1(b).

Date of Receipt of the Certification Request: January 30, 2025.

Reasonable Period of Time to Act on the Certification Request: One year, January 30, 2026.

If Washington Ecology fails or refuses to act on the water quality certification request on or before the above date, then the certifying authority is deemed waived pursuant to section 401(a)(1) of the Clean Water Act, 33 U.S.C. 1341(a)(1).

Dated: February 14, 2025.
Debbie-Anne A. Reese,
Secretary.

[FR Doc. 2025-02964 Filed 2-21-25; 8:45 am]

BILLING CODE 6717-01-P